INTERNATIONAL TRADE COMMISSION

[USITC SE-16-015]

Government in the Sunshine Act Meeting Notice

TIME AND DATE: May 11, 2016 at 11 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. No. 731-TA-1315 (Preliminary)(Ferrovanadium from Korea). The Commission is currently scheduled to complete and file its determination on May 12, 2016; views of the Commission are currently scheduled to be completed and filed on May 19, 2016.

5. Outstanding action jackets: none.

In accordance with Commission policy, subject matter listed above, not disposed of at the scheduled meeting, may be carried over to the agenda of the following meeting.

By order of the Commission.
Dated: May 2, 2016.
William R. Bishop,
Supervisory Hearings and Information Officer.

[FR Doc. 2016-10540 Filed 5-2-16; 4:15 pm]

BILLING CODE 7020-02-P